DEPARTMENT OF HEALTH AND HUMAN SERVICES

National Institutes of Health

National Institute of Environmental Health Sciences; Amended Notice of Meeting

Notice is hereby given of a change in the meeting of the National Institute of Environmental Health Sciences Special Emphasis Panel, October 14, 2001, 12:00 pm to October 14, 2001, 4:00 pm, NIEHS-East Campus, Building 4401, Conference Room 122, 79 Alexander Drive, Research Triangle Park, NC 27709 which was published in the Federal Register on September 13, 2001, FR66:47680.

The date of this meeting has been changed to October 12, 2001. Meeting location and time remains the same. The meeting is closed to the public.

Dated: September 26, 2001.
LaVerne Y. Stringfield,
Director, Office of Federal Advisory Committee Policy.

[FR Doc. 01-24835 Filed 10-3-01; 8:45 am]

BILLING CODE 4140-01-M